DEPARTMENT OF HOUSING AND URBAN DEVELOPMENT

[Docket No. FR-4739-N-11]

Notice of Proposed Information Collection: Comment Request; Single Family Premium Collection Subsystem-Periodic (SFPCS-P)

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: June 17, 2002.

ADDRESSES: Interested persons are invited to submit comments regarding this proposal. Comments should refer to the proposal by name and/or OMB Control Number and should be sent: Wayne Eddins, Reports Management Officer, Department of Housing and Urban Development, 451 7th Street, L'Enfant Plaza Building, Room 8003, Washington, DC 20410.

FOR FURTHER INFORMATION CONTACT: Doretha Dabney, Branch Chief, Single Family Insurance Operations Branch, U.S. Department of Housing and Urban Development, 451 7th Street SW, Washington, DC 20410, telephone (202) 708-1994, x3471 (this is not a toll free number) for copies of the proposed forms and other available information.

SUPPLEMENTARY INFORMATION: The Department is submitting the proposed information collection to OMB for review, as required by the Paperwork Reduction Act of 1995 (44 U.S.C. Chapter 35, as amended).

This Notice is soliciting comments comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Single Family Premium Collection Subsystem-Periodic (SFPCS-P).

OMB Control Number, if applicable: 2502-0536.

Description of the need for the information and proposed use: The Mortgage Insurance Premium (MIP) detail is needed to determine if FHA has collected the required MIP for insured cases and to comply with the Credit Reform Act.

Agency form numbers, if applicable: None.

Estimation of the total numbers of hours needed to prepare the information collection including number of respondents, frequency of response, and hours of response: The number of hours needed to prepare the information collection is 21,600, the estimated number of respondents is 1,800, the frequency of response is monthly generating 21,600 responses, and the estimated time per response is approximately 1 hour.

Status of the proposed information collection: Extension of a currently approved collection.

Authority: The Paperwork Reduction Act of 1995, 44 U.S.C., Chapter 35, as amended.

Dated: April 11, 2002.
Sean G. Cassidy,
General Deputy Assistant Secretary for Housing-Deputy Federal Housing Commissioner.

[FR Doc. 02-9514 Filed 4-17-02; 8:45 am]

BILLING CODE 4210-27-M